DEPARTMENT OF LABOR

Employment and Training Administration

[TA-W 56,230 and TA-W 56,230A]

Spang and Company, Magnetics Division, East Butler, PA, and Bonneville, AR; Notice of Termination of Investigation

Pursuant to section 221 of the Trade Act of 1974, as amended, an investigation was initiated on December 17, 2004, in response to a petition filed by a company official on behalf of workers at Spang and Company, Magnetics Division, East Butler, Pennsylvania, and Spang and Company, Magnetics Division, Bonneville, Arkansas.

The petitioner has requested that the petition be withdrawn. Consequently, the investigation has been terminated.

Signed in Washington, DC, this 24th day of January, 2005.
Richard Church
Certifying Officer, Division of Trade Adjustment Assistance.

[FR Doc. E5-708 Filed 2-22-05; 8:45 am]

BILLING CODE 4510-30-P